FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011075-062.

Title: Central America Discussion Agreement.

Parties: King Ocean Services Limited, Crowley Liner Services, Inc., Seaboard Marine, Ltd., A. P. Moller-Maersk Sealand, APL Co. PTE Ltd., Dole Ocean Cargo Express.

Synopsis: The modification adds Dole Ocean Cargo Express as a party to the agreement.

Agreement No.: 011823-001.

Title: Contship/P&O Nedlloyd Vessel Sharing Agreement.

Parties: Contship Containerlines, P&O Nedlloyd Limited, P&O Nedlloyd BV.

Synopsis: The proposed modification clarifies that the agreement will remain effective until at least December 31, 2009.

By Order of the Federal Maritime Commission.
Dated: January 24, 2003.
Bryant L. VanBrakle,
Secretary.

[FR Doc. 03-2051 Filed 1-28-03; 8:45 am]

BILLING CODE 6730-01-P